OFFICE OF PERSONNEL MANAGEMENT

5 CFR Part 532

RIN 3206-AM84

Prevailing Rate Systems; Redefinition of the Clayton-Cobb-Fulton, Georgia, Nonappropriated Fund Federal Wage System Wage Area

AGENCY: U.S. Office of Personnel Management.

ACTION: Final rule.

SUMMARY: The U.S. Office of Personnel Management (OPM) is adopting as final the interim rule that redefined the Clayton-Cobb-Fulton, GA, nonappropriated fund (NAF) Federal Wage System (FWS) wage area by removing Clarke, Clayton, and Fulton Counties, GA, from the wage area definition. The name of the wage area will be Cobb, GA. These changes are necessary because by the end of October 2013 there will no longer be NAF employment in Clarke, Clayton, and Fulton Counties.

DATES: Effective on October 1, 2013.

FOR FURTHER INFORMATION CONTACT: Madeline Gonzalez, by telephone at (202) 606-2838 or by email at pay-leave-policy@opm.gov.

SUPPLEMENTARY INFORMATION: On May 21 2013, OPM issued an interim rule (78 FR 29611) to redefine the Clayton-Cobb-Fulton, GA, NAF FWS wage area by removing Clarke, Clayton, and Fulton Counties, GA, from the wage area definition. The name of the wage area will be Cobb, GA. These changes are necessary because by the end of October 2013 there will no longer be NAF employment in Clarke, Clayton, and Fulton Counties. The Cobb wage area will consist of one survey county (Cobb County) and two area of application counties (Bartow and DeKalb Counties). The Federal Prevailing Rate Advisory Committee, the national labor-management committee responsible for advising OPM on matters concerning the pay of FWS employees, reviewed and recommended these changes by consensus.

In addition, this interim rule updates the name of the Columbus Consolidated Government in the Columbus, GA, NAF FWS wage area because Columbus is the official name of the entity resulting from the consolidation of the City of Columbus and Muscogee County in 1971.

The interim rule had a 30-day comment period, during which OPM received no comments.

Regulatory Flexibility Act

I certify that these regulations will not have a significant economic impact on a substantial number of small entities because they will affect only Federal agencies and employees.

List of Subjects in 5 CFR Part 532

Administrative practice and procedure, Freedom of information, Government employees, Reporting and recordkeeping requirements, Wages.

U.S. Office of Personnel Management.
Elaine Kaplan,
Acting Director.

Accordingly, under the authority of 5 U.S.C. 5343, the interim rule published on May 21, 2013 (78 FR 29611), amending 5 CFR part 532, is adopted as final without change.

[FR Doc. 2013-23866 Filed 9-30-13; 8:45 am]

BILLING CODE 6325-39-P